DEPARTMENT OF THE INTERIOR

Bureau of Land Management

[AZ-020-1220-HA]

Closure of Public Lands in Yavapai County to Off-Highway Vehicle Use; Phoenix Field Office, Arizona

AGENCY: Bureau of Land Management, Interior.

ACTION: Notice of off-road vehicle closure.

SUMMARY: This notice is to inform the public that the Bureau of Land Management (BLM) intends to close certain lands near Prescott, Arizona in Yavapai County to any and all types of off-highway vehicle (OHV) use. This closure will be year-round and will remain in effect until rescinded or modified by the Phoenix Field Office Manager. The public land affected by this closure is specifically identified as follows:

All BLM administered public lands in

Township 14 North, Range 1 West, G&SRM

Public Lands within Section 33, W½W½NW¼

Containing approximately 40 acres

This OHV closure will protect public lands from environmental damage and to aid in the protection of adjoining state and private lands. The closure will eliminate excessive vehicle noise in residential neighborhoods, reduce the incidence of fugitive dust impacting homeowners, and curtail unattended campfires and fireworks use. Trespass across state and private land to reach this parcel of BLM-administered lands will be curbed by this closure. Dumping of construction debris and litter on the BLM lands will also be halted by this action.

BLM is coordinating this action with adjoining land owners, including the Arizona State Land Department, the Arizona Public Service utility company, the Arizona Game and Fish Department, private residents, and the City of Prescott Police Department. The designated closed area will be posted with signs and have barriers and fences installed where needed. This closure will be monitored and enforced by the BLM, the City of Prescott Police Department, and other law enforcement agencies.

The following persons, operating within the scope of their official duties, are exempt from the provisions of the closure: Employees of the BLM, Arizona Game and Fish Department, Arizona State Land Department, and local or federal law enforcement and fire protection personnel. This closure is in accordance with the provisions of the Federal Land Policy and Management Act of 1976 (43 USC 1701) and 43 CFR, Subpart 8364.1. Any person who fails to comply with the provisions of this closure may be subject to penalties outlined in 43 CFR Subpart 8360.0-7.

EFFECTIVE DATE: This order will be effective upon publication of this notice in the Federal Register and completion of on-the-ground signing and posting by BLM, the Arizona State Land Department and local law enforcement authorities.

FOR FURTHER INFORMATION CONTACT: Michael A. Taylor, Field Manager, Phoenix Field Office, 2015 West Deer Valley Road, Phoenix, Arizona 85027; 623-580-5500.

SUPPLEMENTARY INFORMATION: The 40 acres of public land affected by this off-highway vehicle closure order are adjacent to expanding urban and residential development. Unregulated and unauthorized off-highway and cross-country vehicle travel is not consistent with the orderly growth of the community, public health and safety, and the use of adjoining private land for residences.

Loud noise and fugitive dust from off-highway vehicle operation is a growing and continuing problem. OHV users have been operating their vehicles from early morning till late at night, disturbing nearby property owners. Unattended campfires and use of fireworks create extreme fire hazards for the community. Target shooting and gunfire have disturbed neighborhoods to the north, east and south of this public land parcel. Trespass by off-highway vehicle users from public land onto adjoining private lands has been documented. Increasing levels of local law enforcement personnel and time have been allocated to answering disturbance calls from residents due to noise, dust, late night activity, unattended campfires, firework use, gunfire, and illegal dumping of dirt, debris and trash.

Dated: October 2, 2000.
Deborah K. Rawhouser,
Assistant Field Manager, Resource Use & Protection.

[FR Doc. 00-27018 Filed 10-19-00; 8:45 am]

BILLING CODE 4310-32-M